Title 3—

The President

Proclamation 8542 of July 26, 2010

Anniversary of the Americans With Disabilities Act, 2010

By the President of the United States of America

A Proclamation

When the Americans with Disabilities Act (ADA) was signed into law in 1990, a founding truth of our Nation was realized for persons living with disabilities—that all our citizens are entitled to the same privileges, pursuits, and civil rights. As we mark the 20th anniversary of this historic legislation, we renew our commitment to ensuring that everyone with disabilities can live free from the weight of discrimination and pursue the American dream.

Across our country, Americans with disabilities have enriched and strengthened our Nation. Each day, individuals living with disabilities contribute immeasurably to every aspect of our country’s national life and economy, from art to law, science to business, education to technology. Through steadfast determination, they have worked to make our communities more accessible, while empowering others to exercise independence and self-determination in all aspects of their lives. They have also brightened futures for countless young people. Today, children and youth with disabilities have a place in our classrooms alongside their peers, and are graduating with the knowledge and skills needed for postsecondary education and beyond.

Yet, despite the progress made in removing barriers and eliminating discrimination based on disability, on this 20th anniversary of the ADA, we must renew our commitment to achieving equal opportunity for, and the full inclusion of, all people with disabilities. My Administration has taken important steps towards achieving this goal. We have expanded funding for the Individuals with Disabilities Education Act so that all of America’s children have access to the tools to succeed. Under the health care reforms enacted in the Affordable Care Act, unfair practices like discrimination based on health status or pre-existing conditions will be eliminated. This landmark legislation also creates the Community Living Assistance Services and Supports Program to assist Americans with disabilities to live independently. Additionally, the Affordable Care Act provides States with more tools and financial incentives, such as the Community First Choice Option, which will support individuals with disabilities living in the communities of their choosing. These and other initiatives build on the “Year of Community Living,” which I launched in 2009 to support independent living.

The Federal Government is committed to leading by example in hiring people with disabilities, with focused efforts to recruit, retain, and support these public servants. In partnership with the many Federal agencies and departments with ADA responsibilities, my Administration will uphold strong and meaningful enforcement of the ADA to eliminate discrimination in employment, housing, public services, and community accommodations. I urge all Americans to visit Disability.gov for comprehensive disability-related information and resources.

I am also proud that the United States has in the past year joined the international community in signing the United Nations Convention on the Rights of Persons with Disabilities. In so doing, we affirm that these rights are not simply principles to safeguard at home, but also universal rights to be respected and advanced around the world.

In honor of and in solidarity with all Americans with disabilities and their loved ones, we celebrate the 20th anniversary of the ADA, and recommit to build a more just world, free of unnecessary barriers and full of deeper understanding.

NOW, THEREFORE, I, BARACK OBAMA, President of the United States of America, by virtue of the authority vested in me by the Constitution and the laws of the United States do hereby proclaim Monday, July 26, 2010, the Anniversary of the Americans with Disabilities Act. I encourage Americans across our Nation to celebrate the 20th anniversary of this civil rights law and the many contributions of individuals with disabilities.

IN WITNESS WHEREOF, I have hereunto set my hand this twenty-sixth day of July, in the year of our Lord two thousand ten, and of the Independence of the United States of America the two hundred and thirty-fifth.

[FR Doc. 2010-18852

Filed 7-28-10; 11:15 am]

Billing code 3195-W0-P